NATIONAL SCIENCE FOUNDATION

Notice of Permit Applications Received Under the Antarctic Conservation Act of 1978 (Pub. L. 95-541)

AGENCY: National Science Foundation.

ACTION: Notice of Permit Applications Received under the Antarctic Conservation Act of 1978, Public Law 95-541.

SUMMARY: The National Science Foundation (NSF) is required to publish notice of permit applications received to conduct activities regulated under the Antarctic Conservation Act of 1978. NSF has published regulations under the Antarctic Conservation Act at title 45 part 670 of the Code of Federal Regulations. This is the required notice of permit applications received.

DATES: Interested parties are invited to submit written data, comments, or views with respect to this permit application by August 20, 2010. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

The applications received are as follows:

Permit Application No. 2011-005

1. Applicant: George Waters, Director, U.S. AMLR Program, Southwest Fisheries Science Center, National Marine Fisheries Service, 8604 La Jolla Shores Drive, La Jolla, CA 92038.

Activity for Which Permit Is Requested

Take, Enter Antarctic Specially Protected Areas, and Import into the USA. The applicant plans to continue studies of the behavioral ecology and population biology of the Adelie, Gentoo and chinstrap penguins, and the interactions among these species and their principal avian predators (Skuas, gulls, sheathbills, and giant petrels. Adelie and Gentoo chicks and adults will be band for demographic studies. Continue studies of penguins' foraging habits, involving the use of radio transmitters, satellite tags and time-depth recorders. Another component of the study is to “stomach pump” up to 40 adults penguins per species, collect blood samples, as well as collect data on egg sizes and adult weights. Penguin uropygial gland oil may be collect for contaminant studies and un-hatched penguin eggs may be collect for lipid studies. Samples will be returned to universities for additional studies.

Location

South Shetland Islands vicinity: Copacabana field camp (Admiralty Bay, ASPA # 129) and Lion's Rump (ASPA 151), King George Island.

Dates

October 1, 2010 to July 31, 2011.

Permit Application No. 2011-007

1. Applicant: Paul Morin, Department of Geology and Geophysics, University of Minnesota, 310 Pillsbury Drive, SE., Minneapolis, MN 55455.

Activity for Which Permit Is Requested

Enter Antarctic Specially Protected Areas. The applicant plans enter Cape Crozier (ASPA 124), Cape Royds (ASPA 121), Cape Hallet (ASPA 106), Cape Washington, Edisto Inlet, and Battleship Promontory to collect ground control point with highly precise GPS equipment. Activity would include hiking within each area to readily-identifiable boulders, peaks, etc., gathering precise GPS coordinates of that location, and taking notes and pictures of the surrounding area. Other activities would include delineating penguin colonies, ASPAs, and important environmental features. The data will be used to create updated and accurate maps of areas of important scientific and environmental importance within the Ross Sea region.

Location

Cape Crozier (ASPA 124), Cape Royds (ASPA 121), Cape Hallet (ASPA 106), Cape Washington, Edisto Inlet, and Battleship Promontory.

Dates

October 5, 2010 to January 31, 2011.

Nadene G. Kennedy,
Permit Officer, Office of Polar Programs.

[FR Doc. 2010-17772 Filed 7-20-10; 8:45 am]

BILLING CODE 7555-01-P